DEPARTMENT OF TRANSPORTATION

[Docket No. FRA-2002-11809]

Notice of Public Hearing; the North County Transit District

AGENCY: Federal Railroad Administration.

ACTION: Correction.

SUMMARY: In notice document FRA-2002-11809, Federal Register Vol. 67, No. 235 on page 72718 in the issue of Friday, December 6, 2002, make the following correction:

The date previously published in the Federal Register for the North County Transit District (NCTD), public hearing in Oceanside, California is January 23, 2002. On page 72718, second column in the fourth paragraph, the date of the public hearing should read January 23, 2003.

Issued in Washington, DC on December 23, 2002.
Grady C. Cothen, Jr.,
Deputy Associate Administrator for Safety Standards and Program Development.

[FR Doc. 02-32941 Filed 12-27-02; 8:45 am]

BILLING CODE 4910-06-P